DEPARTMENT OF LABOR

Employment and Training Administration

[TA-W-61,634]

Corsair Memory, Fremont, CA; Notice of Termination of Investigation

Pursuant to section 221 of the Trade Act of 1974, as amended, an investigation was initiated on June 6, 2007 in response to a petition filed by a state of California One-Stop representative on behalf of workers at Corsair Memory, Fremont, California.

The petitioner has requested that the petition be withdrawn. Consequently, the investigation has been terminated.

Signed at Washington, DC, this 20th day of June, 2007.
Elliott S. Kushner,
Certifying Officer, Division of Trade Adjustment Assistance.

[FR Doc. E7-12515 Filed 6-27-07; 8:45 am]

BILLING CODE 4510-FN-P